DEPARTMENT OF THE INTERIOR

Bureau of Land Management

[CACA 048811, LLCAD06000, L51010000.FX0000, LVRWB09B2600]

Notice of Availability of the Final Environmental Impact Statement for the Chevron Energy Solutions/Solar Millennium Blythe Solar Power Plant and Proposed California Desert Conservation Area Plan Amendment

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Proposed California Desert Conservation Area (CDCA) Plan Amendment/Final Environmental Impact Statement (EIS) for the Chevron Energy Solutions/Solar Millennium (CESSM), LLC's Blythe Solar Power Plant (BSPP) project and by this notice is announcing its availability.

DATES: The publication of the Environmental Protection Agency's (EPA) Notice of Availability (NOA) of this Final EIS in the Federal Register initiates a 30-day public comment period. In addition, the BLM's planning regulations state that any person who meets the conditions described in the regulations may protest the BLM's Proposed CDCA Plan Amendment/Final EIS. A person who meets the conditions and files a protest must file the protest within 30 days of the date that EPA publishes its NOA in the Federal Register. The protest procedures are described in the “Dear Reader” letter accompanying the Proposed Plan Amendment/Final EIS.

ADDRESSES: Copies of the Proposed CDCA Plan Amendment/Final EIS for the BSPP Project have been sent to affected Federal, state, and local government agencies and to other stakeholders. Copies are available for public inspection at the Palm Springs South Coast Field Office, 1201 Bird Center Drive, Palm Springs, California 92262. Interested persons may also review the Proposed CDCA Plan Amendment/Final EIS at the following Web site: http://www.blm.gov/ca/st/en/fo/palmsprings/Solar_Projects/Blythe_Solar_Power_Project.html.

Submit comments on the Final EIS to Allison Shaffer, BLM Project Manager, Palm Springs South Coast Field Office, 1201 Bird Center Drive, Palm Springs, California 92262; or e-mail: CAPSSolarBlythe@blm.gov.

All protests must be in writing and mailed to one of the following addresses:

Regular Mail: BLM Director (210), Attention: Brenda Williams, P.O. Box 66538, Washington, DC 20035.

Overnight Mail: BLM Director (210), Attention: Brenda Williams, 1620 L Street, NW., Suite 1075, Washington, DC 20036.

FOR FURTHER INFORMATION CONTACT: Allison Shaffer, BLM Project Manager, telephone (760) 833-7100; address (see ADDRESSES above).

SUPPLEMENTARY INFORMATION: CESSM has submitted a right of way (ROW) application to the BLM for development of the proposed BSPP project, consisting of 4 parabolic trough solar thermal power plants. The project would be built in 4 phases which are designed to generate approximately 968 megawatts (MW) of electricity at full development. The project footprint is approximately 5,950 acres of BLM-managed lands, with a proposed ROW encompassing 9,400 acres. The project site is in Riverside County, California, approximately 8 miles west of Blythe, California, 3 miles north of Highway I‐10, and 1 mile north of the Blythe Regional Airport.

The project includes the power generation facility, an electrical transmission line, natural gas pipeline, and an access road. A double circuit 230-kilovolt (kV) transmission line would be constructed to interconnect to the Devers-Palo Verde #2 500 kV line at the Colorado River substation. Approximately 6.5 miles of this new line would be outside the project area but is included in the analysis. The new line proposes to use a 175-foot wide ROW.

The BLM's purpose and need for the NEPA analysis of the BSPP project is to respond to CESSM's application under Title V of FLPMA (43 U.S.C. 1761) for a ROW grant to construct, operate, and decommission a solar thermal electric generation facility on public lands in compliance with FLPMA, BLM ROW regulations, and other applicable Federal laws. The BLM will decide whether to approve, approve with modification, or deny a ROW grant to CESSM for the proposed BSPP project. The BLM will also consider amending the CDCA Plan in this analysis. The CDCA Plan (1980, as amended), while recognizing the potential compatibility of solar electric generation facilities on public lands, requires that all sites associated with power generation or transmission not identified in the CDCA Plan be considered through the plan amendment process. If the BLM decides to grant a ROW, the BLM would also amend the CDCA Plan as required.

In the Final EIS, the BLM's proposed action is to authorize the BSPP project and approve a CDCA Plan amendment in response to the application received from CESSM. The BLM's preferred alternative is the proposed action. In addition to the proposed action, the BLM is analyzing the following action alternatives: (1) authorize a reconfigured 1,000-MW alternative and amend the CDCA Plan; and (2) authorize a smaller 750-MW alternative and amend the CDCA Plan.

As required under NEPA, the Final EIS analyzes a no action alternative that would not require a CDCA Plan Amendment. Additionally, the Final EIS analyzes two additional no action alternatives: (1) A no action alternative which would deny the project but amend the CDCA Plan to allow other solar energy power generation projects on the project site and (2) a no action alternative which would deny the project and amend the CDCA Plan to prohibit solar energy projects on the project site. The BLM will take into consideration the provisions of the Energy Policy Act of 2005 and Secretarial Orders 3283 Enhancing Renewable Energy Development on the Public Lands and 3285A1 Renewable Energy Development by the Department of the Interior in responding to the BSPP application.

The Final EIS evaluates the potential impacts of the project on air quality, biological resources, cultural resources, water resources, geological resources and hazards, land use, noise, paleontological resources, public health, socioeconomics, soils, traffic and transportation, visual resources, wilderness characteristics, and other resources.

The Applicant has applied to the Department of Energy (DOE) for a loan guarantee under Title XVII of the Energy Policy Act of 2005 (EPAct 05), as amended by Section 406 of the American Recovery and Reinvestment Act of 2009, Public Law 111-5 (the “Recovery Act”). The DOE has entered into negotiations of a loan guarantee with the applicant, and is a cooperating agency in developing the Final EIS.

An NOA for the BSPP Draft EIS/Draft CDCA Plan Amendment and California Energy Commission Staff Assessment (SA) was published by EPA in the Federal Register on March 19, 2010 (75 FR 13301). The formal 90-day comment period ended on June 16, 2010. Comments on the Draft EIS/plan amendment received from the public and internal BLM review were considered and incorporated as appropriate into the proposed plan amendment. Public comments resulted in the addition of clarifying text, but did not significantly change proposed decisions.

Instructions for filing a protest with the Director of the BLM regarding the BSPP Project may be found in the BSPP Proposed CDCA Plan Amendment/Final EIS “Dear Reader” letter and at 43 CFR 1610.5-2. E-mailed or faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at (202) 912-7212, and e-mails to Brenda_Hudgens-Williams@blm.gov. All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, and 1506.10, 43 CFR 1610.2 and 1610.5.

Thomas Pogacnik,
Deputy State Director, California.

[FR Doc. 2010-20559 Filed 8-19-10; 8:45 am]

BILLING CODE 4310-40-P